DEPARTMENT OF THE TREASURY

Office of Foreign Assets Control

Additional Designation of Individuals Pursuant to Executive Order 13310

AGENCY: Office of Foreign Assets Control, Treasury.

ACTION: Notice.

SUMMARY: The Treasury Department's Office of Foreign Assets Control (“OFAC”) is publishing the names of fourteen newly-designated individuals whose property and interests in property are blocked pursuant to Executive Order 13310 of July 28, 2003, “Blocking Property of the Government of Burma and Prohibiting Certain Transactions.”

DATES: The designation by the Director of OFAC of fourteen individuals identified in this notice, pursuant to Executive Orders 13310, is effective September 27, 2007.

FOR FURTHER INFORMATION CONTACT: Assistant Director, Compliance Outreach & Implementation, Office of Foreign Assets Control, Department of the Treasury, 1500 Pennsylvania Avenue, NW., (Treasury Annex), Washington, DC 20220, Tel.: 202/622-2490.

SUPPLEMENTARY INFORMATION:

Electronic and Facsimile Availability

Information about this designation and additional information concerning OFAC are available from OFAC's Web site (http://www.treas.gov/ofac) or via facsimile through a 24-hour fax-on-demand service, Tel.: 202/622-0077.

Background

On July 28, 2003, the President issued Executive Order 13310 (the “Order”) pursuant to, inter alia, the International Emergency Economic Powers Act (50 U.S.C. 1701-06). In the Order, the President took additional steps with respect to the national emergency declared in Executive Order 13047 of May 20, 1997, to address the Government of Burma's continued repression of the democratic opposition. The President identified four entities as subject to the economic sanctions in the Annex to the Order.

Section 1 of the Order blocks, with certain exceptions, all property and interests in property that are in, or hereafter come within, the United States or within the possession or control of United States persons of the persons listed in the Annex, as well as those persons determined by the Secretary of the Treasury, in consultation with the Secretary of State, to satisfy any of the criteria set forth in subparagraphs (b)(i) and b(ii) of Section 1. On September 27, 2007, the Director of OFAC exercised the Secretary of the Treasury's authority to designate, pursuant to one or more of the criteria set forth in Section 1, subparagraphs (b)(i) and (b)(ii) of the Order, the following fourteen individuals, whose names have been added to the list of Specially Designated Nationals and whose property and interests in property are blocked pursuant to Executive Order 13310:

1. AYE, Maung; DOB 25 Dec 1937; citizen Burma; nationality Burma; Vice Senior General; Vice-Chairman of the State Peace and Development Council; Deputy Commander-in-Chief, Myanmar Defense Services (Tatmadaw); Commander-in-Chief, Myanmar Army (individual) [BURMA].

2. BO, Maung; DOB 16 Feb 1945; citizen Burma; nationality Burma; Lieutenant-General; Chief of Bureau of Special Operation 4; Member, State Peace and Development Council (individual) [BURMA].

3. HTWE, Aung; DOB 1 Feb 1943; citizen Burma; nationality Burma; Lieutenant-General; Chief of Armed Forces Training; Member, State Peace and Development Council (individual) [BURMA].

4. MANN, Shwe (a.k.a. MANN, Thura Shwe); DOB 11 Jul 1947; citizen Burma; nationality Burma; Joint Chief of Staff; Member, State Peace and Development Council (individual) [BURMA].

5. MYINT, Ye; DOB 21 Oct 1943; citizen Burma; nationality Burma; Lieutenant-General; Chief, Military Affairs; Chief, Bureau of Special Operation 1; Member, State Peace and Development Council (individual) [BURMA].

6. OO, Maung; DOB 1952; citizen Burma; nationality Burma; Major General; Minister of Home Affairs (individual) [BURMA].

7. OO, Tin Aung Myint (a.k.a. OO, Thiha Thura Tin Aung Myint); DOB 27 May 1950; citizen Burma; nationality Burma; Lieutenant-General; Quartermaster General; Minister of Military Affairs; Member, State Peace and Development Council (individual) [BURMA].

8. SEIN, Thein; DOB 20 Apr 1945; POB Pathein, Irrawaddy Division; citizen Burma; nationality Burma; Adjutant General; First Secretary, State Peace and Development Council (individual) [BURMA].

9. SHWE, Than; DOB 2 Feb 1935; alt. DOB 2 Feb 1933; citizen Burma; nationality Burma; Senior General, Minister of Defense and Commander-in-Chief of Defense Services; Chairman, State Peace and Development Council (individual) [BURMA].

10. SWE, Myint; DOB 24 Jun 1951; citizen Burma; nationality Burma; Lieutenant-General; Chief of Military Affairs Security (individual) [BURMA].

11. THI, Lun; DOB 18 Jul 1940; citizen Burma; nationality Burma; Brigadier-General; Minister of Energy (individual) [BURMA].

12. WIN, Kyaw; DOB 3 Jan 1944; citizen Burma; nationality Burma; Lieutenant-General; Chief of Bureau of Special Operation 2; Member, State Peace and Development Council (individual) [BURMA].

13. WIN, Nyan; DOB 22 Jan 1953; citizen Burma; nationality Burma; Major General; Minister of Foreign Affairs (individual) [BURMA].

14. WIN, Soe; DOB 10 May 1947; citizen Burma; nationality Burma; Lieutenant-General; Prime Minister; Member, State Peace and Development Council (individual) [BURMA].

Dated: September 27, 2007.
Barbara C. Hammerle,
Acting Director, Office of Foreign Assets Control.

[FR Doc. E7-19556 Filed 10-2-07; 8:45 am]

BILLING CODE 4811-42-P